DEPARTMENT OF LABOR

Employment and Training Administration

[TA-W-60,832]

Lear Corporation, Madisonville, KY; Notice of Termination of Investigation

Pursuant to Section 221 of the Trade Act of 1974, as amended, an investigation was initiated on January 25, 2007 in response to a worker petition filed on behalf of workers of Lear Corporation, Madisonville, Kentucky.

This petition is a photocopy of the petition filed on January 16, 2007, that is the subject of an ongoing investigation for which a determination has not yet been issued (TA-W-60,764).

Since this petition was initiated in error, the investigation has been terminated.

Signed at Washington, DC this 29th day of January 2007.
Linda G. Poole,
Certifying Officer, Division of Trade Adjustment Assistance.

[FR Doc. E7-1960 Filed 2-6-07; 8:45 am]

BILLING CODE 4510-FN-P